DEPARTMENT OF JUSTICE

Antitrust Division

Notice Pursuant to the National Cooperative Research and Production Act of 1993—Maritime Sustainment and Technology Innovation Consortium

Notice is hereby given that, on April 15, 2024, pursuant to section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances. Specifically, A&B Foundry LLC, Franklin, OH; Admartec, Inc., Hazlet, NJ; Advanced Technology and Research Corp., Beltsville, MD; American Additive Manufacturing LLC, Horsham, PA; APCO Technologies Engineering Inc., Providence, RI; BEC Systems LLC, Harleysville, PA; Beehive Industries LLC, Centennial, CO; Berry Engineering, Inc., Williamsburg, VA; Centurum Information Technology, Inc., Marlton, NJ; CEPEDA Associates, Inc., Louisville, KY; Curtiss-Wright Flow Control Corp., East Farmingdale, NY; Dante Valve Company, Norfolk, VA; Diversified Technologies, Inc., Bedford, MA; Excelco Newbrook, Inc., Silver Creek, NY; Fairmount Automation, Inc., West Conshohocken, PA; FasTech LLC, Danville, VA; Fluid Conditioning Products, Inc., Lititz, PA; FormAlloy Technologies, Inc., Spring Valley, CA; Graham Corp., Batavia, NY; HAMR Industries LLC, Clinton, PA; HEBI Robotics, Inc., Pittsburgh, PA; Horizons, Inc. Camcode Division, Cleveland, OH; Howell Laboratories, Inc., Bridgton, ME; Hyphen Innovations, Beavercreek, OH; IMI-Critical Engineering PBM LLC, Irwin, PA; Innovative Defense Technologies LLC, Arlington, VA; Iron EagleX, Inc., Tampa, FL; Keysight Technologies, Santa Rosa, CA; MATSYS, Inc., Sterling, VA; Reliability & Performance Technologies LLC, Dublin, PA; Roush Industries, Inc., Livonia, MI; Simulation Systems Technologies, Inc., Voorhees, NJ; Strategic Technology Consulting LLC, Chantilly, VA; Trustees of the Colorado School of Mines, Golden, CO; TVAR Solutions LLC, McLean, VA; University of Delaware, Newark, DE; V.E.P. Manufacturing, Inc., Jackson, NJ; Velan Valve Corp., Williston, VT; VSolvit LLC, Henderson, NV; and Wireless Research Center of North Carolina, Wake Forest, NC, have been added as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on January 8, 2024. A notice was published in the Federal Register pursuant to section 6(b) of the Act on March 13, 2024 (89 FR 18440).

Suzanne Morris,
Deputy Director Civil Enforcement Operations, Antitrust Division.

[FR Doc. 2024-14310 Filed 6-27-24; 8:45 am]

BILLING CODE P